ENVIRONMENTAL PROTECTION AGENCY

40 CFR Part 300

[FRL-6861-9]

National Oil and Hazardous Substances Pollution Contingency Plan; National Priorities List

AGENCY: Environmental Protection Agency (EPA).

ACTION: Direct Final Deletion of the Wheeling Disposal Service Company, Incorporated, Landfill Site from the National Priorities List (NPL).

SUMMARY: EPA Region VII announces the deletion of the Wheeling Disposal Service Company, Incorporated Landfill site (site) from the (NPL) and requests public comment on this action. The NPL constitutes Appendix B of 40 CFR Part 300 which is the National Oil and Hazardous Substance Pollution Contingency Plan (NCP), which EPA promulgated pursuant to Section 105 of the Comprehensive Environmental Response, Compensation and Liability Act of 1980, as amended, (CERCLA). EPA and the Missouri Department of Natural Resources (MDNR) have determined that all appropriate response actions have been implemented and the site poses no significant threat to public health or the environment and, therefore, further remedial measures pursuant to CERCLA are not appropriate.

DATES: This “direct final” action will be effective October 30, 2000 unless EPA receives significant adverse or critical comments by October 2, 2000. If adverse comments are received, EPA will publish a timely withdrawal of the direct final rule in the Federal Register informing the public that the rule will not take effect.

ADDRESSES: Comments may be mailed to Catherine Barrett, Remedial Project Manager, U.S. EPA, Superfund Division, 901 North 5th Street, Kansas City, KS 66101, telephone (913) 551-7704, fax (913) 551-7063. Comprehensive information on this site is available through the public docket which is available for viewing at the Site Information Repository at U.S. EPA Region VII, Superfund Division Records Center, 901 North 5th Street, Kansas City, KS 66101 or the Wheeling Local Repository, Rolling Hills Library, 514 West Main Street, Savannah, Missouri.

FOR FURTHER INFORMATION CONTACT: Catherine Barrett, U.S. EPA, Superfund Division, 901 North 5th Street, Kansas City, KS 66101, telephone (913) 551-7704, fax (913) 551-7063.

SUPPLEMENTARY INFORMATION:

Table of Contents

I. Introduction

II. NPL Deletion Criteria

III. Deletion Procedures

IV. Basis of Intended Site Deletion

V. Action

I. Introduction

The EPA Region VII announces the deletion of the Wheeling Disposal Service Company, Incorporated, Landfill site, Amazonia, Missouri, from the NPL, Appendix B of the NCP, 40 CFR Part 300. EPA identifies sites that appear to present a significant risk to public health, welfare, or the environment and maintains the NPL as the list of these sites. EPA and the MDNR have determined that the remedial action for the site has been successfully executed. EPA will accept comments on this notice thirty days after publication of this notice in the Federal Register.

Section II of this action explains the criteria for deleting sites from the NPL. Section III discusses the procedures that EPA is using for this action. Section IV discusses the history of the Wheeling Disposal Service Company, Incorporated, Landfill site and explains how the site meets the deletion criteria. Section V states EPA's action to delete the releases of the site from the NPL unless dissenting comments are received during the comment period.

II. NPL Deletion Criteria

Section 300.425(e) of the NCP provides that sites may be deleted from, or recategorized on the NPL where no further response is appropriate. In making a determination to delete a release from the NPL, EPA shall consider, in consultation with the state, whether any of the following criteria have been met:

(i) Responsible parties or other persons have implemented all appropriate response actions required;

(ii) All appropriate fund-financed response under CERCLA has been implemented, and no further response action by responsible parties is appropriate; or

(iii) The remedial investigation has shown that the release poses no significant threat to public health or the environment; and, therefore, taking of remedial measures is not appropriate.

Even if the site is deleted from the NPL, where hazardous substances, pollutants, or contaminants remain at the site above levels that allow for unlimited use and unrestricted exposure, EPA's policy is that a subsequent review of the site will be conducted at least every five years after the initiation of the remedial action at the site to ensure that the remedy remains protective of human health and the environment. A 5-year review was conducted for the Wheeling Disposal Service Company, Incorporated, Landfill in 1999. Based on that review, EPA in consultation with the State, determined that conditions at the site remain protective of public health and the environment. As explained below, the site meets the NCP's deletion criteria listed above. If new information becomes available which indicates a need for further action, EPA may initiate remedial actions. Whenever there is a significant release from a site deleted from the NPL, the site shall be restored to the NPL without the application of the Hazard Ranking System (HRS).

III. Deletion Procedures

The following procedures were used for the intended deletion of the release from the site: (1) All appropriate response under CERCLA has been implemented and no further action by EPA is appropriate; (2) The MDNR concurred with the proposed deletion decision; (3) A notice has been published in the local newspaper and has been distributed to appropriate federal, state, and local officials and other interested parties announcing the commencement of a 30-day dissenting public review. EPA is requesting only dissenting comments on the Direct Final Action to Delete; and (4) All relevant documents have been made available in the local site information repository.

For deletion of the release from the site, EPA's Regional Office will accept and evaluate public comments on EPA's Final Notice before making a final decision to delete. If necessary the Agency will prepare a Responsiveness Summary, responding to each significant comment submitted during the public comment period. Deletion of the site from the NPL does not itself create, alter, or revoke any individual's rights or obligations. The NPL is designed primarily for informational purposes and to assist Agency management. As mentioned in Section II of this document, § 300.425 (e) (3) of the NCP states that the deletion of a release from a site from the NPL does not preclude eligibility for future response actions.

IV. Basis for Intended Site Deletion

The following site summary provides the Agency's rationale for the proposal to delete this release from the NPL.

Site Background and History

The Wheeling Disposal Service Company, Incorporated, Landfill site is located in Andrew County, Missouri, and is a 20-acre site, centrally located on two adjacent areas totaling about 200 acres. The shallow groundwater below the site supplies water to a deeper aquifer. The site was added to the NPL on October 4, 1989.

The landfill was established in the early 1970s and the facility received a State permit in 1975 to operate as an industrial waste disposal facility. Between 1980 and 1981, the company voluntarily ceased operations. The facility resumed operations under the authority of a special waste disposal permit issued by the State of Missouri until it voluntarily closed in 1986. The MDNR periodically inspected the site and monitored groundwater when the landfill was in operation. Based on MDNR hazardous waste records, wastes containing pesticides, heavy metals, paint, solvents, and leather tanning sludge were disposed of in the landfill. In field investigations conducted by the EPA, contaminants were detected in monitoring wells and springs on the site.

The groundwater and soil on site were contaminated with various volatile organic compounds (VOCs) and heavy metals including arsenic, chromium, nickel, and lead from the former waste disposal activities. Several seeps on the north side of the site were contaminated, indicating that local surface water was potentially threatened.

In late 1990, the potentially responsible parties completed site investigations. In a Proposed Plan, the proposed remedy for the site included the following: well plugging, surface water and groundwater monitoring, and upgrading the existing landfill cover to comply with State and Federal standards. A Community Relations Plan was completed for the Wheeling Disposal Service Company, Incorporated, Landfill site. The Proposed Plan and the Administrative Record were available for public review during the public comment period. A public meeting was held to present the Proposed Plan for the remedy and to answer questions and receive any written comments. A Record of Decision explaining the remedy for the site was signed by EPA on September, 27, 1990.

A Consent Decree, Civil Action No. 92-0132-CV-W-1, which addressed the Remedial Design and Remedial Action (RD/RA) at the site, was entered by the court on October 1, 1992. The Wheeling Disposal Site RD/RA Trust hired a contractor to assist them in the implementation of the RD/RA. Construction documents were generated by the responsible party contractor and contractors were procured to carry out the bid contracts. The EPA approved RD documents on September 30, 1993.

In compliance with the Consent Decree, the responsible party completed all RA construction within the Consent Decree schedule. The pre-final site inspection by EPA was conducted on July 27, 1994. The EPA provided final Construction Completion Notification on September 1, 1994.

The RA construction completed included previous monitoring well and farm well closure according to MDNR regulations, placement of 10 new monitoring wells, surface water and groundwater monitoring, and upgrading the existing landfill cover to comply with State and Federal standards. The landfill upgrading included gas vent system installation, geotextile installation, 24-inch depth final soil cap, surface terraces, berms, and riprap channel installation, and topsoil placement and seeding.

Operations and Maintenance

Long-term maintenance and groundwater monitoring is being conducted by the parties potentially responsible for site contamination. The operation and maintenance (O&M) activities being conducted include ground water monitoring and surface water monitoring through a sampling program, and maintenance of the landfill cover. Sampling is to continue to be conducted annually by the responsible party in accordance with the Consent Decree.

Five-Year Review

CERCLA requires a five-year review of all sites with hazardous substances remaining above the health-based levels for unrestricted use of the site. Since hazardous materials remain at the Site, the five-year review process will be used to insure that the landfill cover is still intact and the remedy is protective of human health and the environment. EPA issued a five-year review report in 1999 which was an evaluation of the results of the maintenance and monitoring activities at the Site. This report concluded that the Wheeling Disposal Service Company, Incorporated, Landfill site is protective of human health and the environment. The five-year review recommended continuing the O&M activities, including maintenance of the landfill cap and groundwater and surface water sampling.

V. Action

The remedy selected for this Site has been implemented in accordance with the Record of Decision. Therefore, no further response action is necessary. The remedy has resulted in the significant reduction of the long-term potential for release of contaminants, therefore, human health and potential environmental impacts have been minimized. EPA and the MDNR find that the remedy implemented continues to provide adequate protection of human health and the environment.

The EPA, with concurrence of the State of Missouri, has determined that the criteria for deletion of the release have been met. Therefore, EPA is deleting the site from the NPL.

This action will be effective October 30, 2000. However, if EPA receives dissenting comments by October 2, 2000, EPA will publish a document that withdraws this action.

List of Subjects in 40 CFR Part 300

Environmental protection, Air pollution control, Chemicals, Hazardous substances, Hazardous substances, Hazardous waste, Intergovernmental relations, Penalties, Reporting and recordkeeping requirements, Superfund, Water pollution control, Water supply.

August 18, 2000.
William Rice,
Acting Regional Administrator, Region 7.

Part 300, title 40 of chapter 1 of the Code of Federal Regulations is amended as follows:

PART 300—[AMENDED]

1. The authority citation for Part 300 continues to read as follows:

Authority: 33 U.S.C. 1321 (c) (2); 42 U.S.C. 9601-9657; E.O. 12777, 56FR 54757, 3 CFR, 1991 Comp.; p.351; E.O. 12580, 52 FR 2923, 3 CFR, 1987 Comp.; p.193.

Appendix B—[Amended]

2. Table 1 of Appendix B to Part 300 is amended by removing the site for “Wheeling Disposal Service Co. Landfill, Amazonia, Missouri.”

[FR Doc. 00-22377 Filed 8-30-00; 8:45 am]

BILLING CODE 6560-50-P